NATIONAL SCIENCE FOUNDATION

Special Emphasis Panel in Biological Infrastructure; Notice of Meeting

In accordance with the Federal Advisory Committee Act (Pub. L. 92-463, as amended), the National Science Foundation announces the following meeting:

Name: Special Emphasis Panel in Biological Sciences (#1754).

Date & Time: March 22-24, 2000.

Place: Room 340, National Science Foundation, 4201 Wilson Boulevard, Arlington, VA.

Type of Meeting: Closed.

Contact Person: Dr. Jane Silverthorne, Program Director, Plant Genome Research Program, Room 615, Division of Biological Infrastructure, NSF, 4201 Wilson Boulevard, VA 22230, Telephone: (703) 306-1470.

Purpose of Meeting: To provide advice and recommendations concerning proposals submitted to NSF for financial support.

Agenda: To review and evaluate Plant Genome Research Program proposals submitted in response to the program announcement (NSF 99-171).

Reason for Closing: The proposals being reviewed include information of a proprietary or confidential nature, including technical information; financial data, such as salaries; and personal information concerning individuals associated with the proposals. These matters are exempt under 5 U.S.C. 552b(c), (4) and (6) of the Government in the Sunshine Act.

Dated: March 10, 2000.
Karen J. York,
Committee Management Officer.

[FR Doc. 00-6355 Filed 3-14-00; 8:45 am]

BILLING CODE 7555-01-M